DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than March 12, 2018.

Interested persons are invited to submit written comments regarding the subject matter of the investigations to the Director, Office of Trade Adjustment Assistance, at the address shown below, not later than March 12, 2018.

The petitions filed in this case are available for inspection at the Office of the Director, Office of Trade Adjustment Assistance, Employment and Training Administration, U.S. Department of Labor, Room N-5428, 200 Constitution Avenue NW, Washington, DC 20210.

Signed at Washington, DC, on January 26, 2018.
Hope D. Kinglock,
Certifying Officer, Office of Trade Adjustment Assistance.

Appendix
[121 TAA petitions instituted between 12/1/17 and 1/26/18]
TA-W | Subject firm (petitioners) | Location | Date of institution | Date of petition
93337 | Affinion Group dba Webloyalty.com, Inc and Trilegiant Retail Services, Inc. (State/One-Stop) | Trumbull, CT | 12/01/17 | 12/01/17
93338 | Data Display Products (State/One-Stop) | El Segundo, CA | 12/01/17 | 11/30/17
93339 | Ventus Global Network (State/One-Stop) | Norwalk, CT | 12/01/17 | 11/17/17
93340 | Breg, Inc. (State/One-Stop) | Carlsbad, CA | 12/04/17 | 12/01/17
93341 | Nypro, a Jubril Company (Company) | Porterville, CA | 12/04/17 | 11/30/17
93342 | BFNA (State/One-Stop) | Normal, IL | 12/05/17 | 11/15/17
93343 | Harman (Company) | Elkhart, IN | 12/05/17 | 12/04/17
93344 | Hewlett Packard Enterprise (State/One-Stop) | Houston, TX | 12/05/17 | 12/04/17
93345 | YP Holdings LLC (State/One-Stop) | Maryland Heights, MO | 12/05/17 | 12/04/17
93346 | Alstom Signaling LLC. (Union) | West Henrietta, NY | 12/06/17 | 12/05/17
93347 | Kellogg Company (State/One-Stop) | Sumner, WA | 12/06/17 | 12/05/17
93348 | MTorres America (State/One-Stop) | Everett, WA | 12/06/17 | 12/05/17
93349 | TLC Companies/Assigned to SFK (State/One-Stop) | Seneca, KS | 12/06/17 | 12/05/17
93350 | HM Dunn Company Inc. (State/One-Stop) | St. Louis, MO | 12/07/17 | 12/06/17
93351 | Sunlight Supply Inc. (State/One-Stop) | Vancouver, WA | 12/07/17 | 12/06/17
93352 | Tek-Motive, Inc. (State/One-Stop) | East Haven, CT | 12/07/17 | 12/07/17
93353 | Alexion Pharmaceuticals, Inc. (State/One-Stop) | Smithfield, RI | 12/08/17 | 12/07/17
93354 | Yuhshin USA Limited (State/One-Stop) | Kirksville, MO | 12/08/17 | 12/07/17
93355 | Philips Medical Systems (Cleveland) Inc. (Company) | Aurora, IL | 12/11/17 | 12/08/17
93356 | Weyerhaeuser NR Company (Union) | Sweet Home, OR | 12/11/17 | 12/08/17
93357 | Kellogg Sales Company (Workers) | La Palma, CA | 12/11/17 | 12/04/17
93358 | HSBC Bank Technology and Services, Inc. (State/One-Stop) | New York, NY | 12/11/17 | 12/08/17
93359 | Western Union (State/One-Stop) | Montvale, NJ | 12/11/17 | 12/08/17
93360 | 5 Point Enterprises (Workers) | Austin, TX | 12/11/17 | 12/08/17
93361 | General Motors (Union) | Spring Hill, TN | 12/11/17 | 12/08/17
93362 | Adecco (State/One-Stop) | Hoosick Falls, NY | 12/11/17 | 12/08/17
93363 | CHS, Inc. (State/One-Stop) | Hutchinson, KS | 12/12/17 | 12/07/17
93364 | Tokusen U.S.A., Inc. (Workers) | Scottsburg, IN | 12/12/17 | 12/06/17
93365 | Beiersdorf Inc. (State/One-Stop) | Wilton, CT | 12/13/17 | 12/12/17
93366 | Belden (Company) | Monticello, KY | 12/13/17 | 12/12/17
93367 | Pacific Crest Transformers (Union) | White City, OR | 12/13/17 | 12/05/17
93368 | Avanade Inc. (State/One-Stop) | Seattle, WA | 12/14/17 | 12/13/17
93369 | Meggitt Aircraft Braking Systems Corporation (Company) | Akron, OH | 12/14/17 | 12/13/17
93370 | Pittsburgh Glass Works LLC (Union) | Craighton, PA | 12/14/17 | 12/13/17
93371 | R L Fisher Inc. (State/One-Stop) | Hartford, CT | 12/14/17 | 12/13/17
93372 | Blue Chip Energy, LLC (State/One-Stop) | Lake Mary, FL | 12/15/17 | 12/11/17
93373 | HBW Leads (State/One-Stop) | Salem, OR | 12/15/17 | 12/08/17
93374 | Schawk USA Inc. (State/One-Stop) | Kalamazoo, MI | 12/15/17 | 12/14/17
93375 | SolarTech Universal, LLC (State/One-Stop) | Riviera Beach, FL | 12/15/17 | 12/11/17
93376 | CenturyLink (formerly Embarq) (Workers) | Carlisle, PA | 12/18/17 | 12/15/17
93377 | Convergys (State/One-Stop) | Cedar City, UT | 12/19/17 | 12/18/17
93378 | Crown Optical Company (Workers) | Smithfield, RI | 12/19/17 | 12/18/17
93379 | Suddenlink Communications (Workers) | Parkersburg, WV | 12/19/17 | 12/15/17
93380 | GE Inspection Technologies (State/One-Stop) | Lewiston, PA | 12/20/17 | 12/19/17
93381 | The Boeing Company (State/One-Stop) | Everett, WA | 12/21/17 | 12/15/17
93382 | Honeywell International, Inc. (Union) | Metropolis, IL | 12/21/17 | 12/20/17
93383 | Ryder Logistics (Union) | Spring Hill, TN | 12/21/17 | 12/20/17
93384 | Torpedo Specialty Wire, Inc. (Company) | Pittsfield, PA | 12/21/17 | 11/15/17
93385 | Xerox Corporation (Workers) | Rochester, NY | 12/21/17 | 11/11/17
93386 | Futuris Automotive (Company) | Milan, TN | 12/22/17 | 12/12/17
93387 | Valley Processing (State/One-Stop) | Bedford, VA | 12/22/17 | 12/20/17
93388 | AccuTec Blades Inc. (Union) | Verona, VA | 12/26/17 | 12/11/17
93389 | Print Media, LLC (now DexYP) (State/One-Stop) | Maryland Heighs, MO | 12/26/17 | 12/21/17
93390 | UTAS Landing Systems (Union) | Tullahoma, TN | 12/26/17 | 12/21/17
93391 | DJO Global (State/One-Stop) | Vista, CA | 12/28/17 | 12/27/17
93392 | Honeywell Metropolis (Workers) | Metropolis, IL | 12/28/17 | 12/28/17
93393 | 3M Purification (State/One-Stop) | Enfield, CT | 12/29/17 | 12/22/17
93394 | ISM—Industrial Sales and Manufacturing (State/One-Stop) | Erie, PA | 12/29/17 | 12/28/17
93395 | ITW EAE-Despatch Industries (State/One-Stop) | Lakeville, MN | 12/29/17 | 12/18/17
93396 | Thomson Reuters (State/One-Stop) | New York, NY | 12/29/17 | 12/27/17
93397 | United Health Group/Optum Healthcare (State/One-Stop) | Santa Ana, CA | 12/29/17 | 12/07/17
93398 | Willis Towers Watson (State/One-Stop) | Stamford, CT | 12/29/17 | 12/28/17
93399 | Atlas Copco Secoroc LLC (State/One-Stop) | Grand Prairie, TX | 01/02/18 | 12/29/17
93400 | Eaton Crouse Hinds Division (Workers) | Houston, TX | 01/03/18 | 01/02/18
93401 | Philips Healthcare (Company) | San Jose, CA | 01/03/18 | 01/02/18
93402 | Allcare Plus Pharmacy, Call Center Staff (State/One-Stop) | Northborough, MA | 01/03/18 | 12/29/17
93403 | Ametek Instrumentation Systems (Company) | Grand Junction, CO | 01/04/18 | 12/28/17
93404 | Shaw Industries Group, Inc. (Company) | Stuart, VA | 01/04/18 | 12/13/17
93405 | Westcon Group, Inc. (State/One-Stop) | Louisville, CO | 01/04/18 | 01/03/18
93406 | Armstrong World Industries, Inc. (State/One-Stop) | St. Helens, OR | 01/08/18 | 01/05/18
93407 | Ledvance Distribution Center (Company) | Bethlehem, PA | 01/08/18 | 01/05/18
93408 | Sanmina (State/One-Stop) | Owego, NY | 01/08/18 | 01/05/17
93409 | Staber Industries (State/One-Stop) | Groveport, OH | 01/08/18 | 01/05/18
93410 | Sutherland Global Services (State/One-Stop) | Syracuse, NY | 01/08/18 | 12/27/17
93411 | World Ventures dba Rovia (State/One-Stop) | Plano, TX | 01/08/18 | 01/05/17
93412 | AT&T Mobility and Consumer Acquisition (State/One-Stop) | Wichita, KS | 01/09/18 | 01/09/18
93413 | GE Power—formerly Alstrom Power (State/One-Stop) | Windsor, CT | 01/09/18 | 01/08/18
93414 | Parker Hannifin (Workers) | Tell City, IN | 01/09/18 | 01/08/18
93415 | Allied Ring Corporation (Company) | St. Johns, MI | 01/10/18 | 01/09/18
93416 | Ledvance, LLC (Company) | Exeter, NH | 01/10/18 | 01/10/18
93417 | Triumph Aerostructures, Vought Aircraft Division (State/One-Stop) | Red Oak, TX | 01/10/18 | 01/09/18
93418 | Capital One Services LLC (State/One-Stop) | Glen Allen, VA | 01/11/18 | 01/11/18
93419 | Dole Berry Farms (State/One-Stop) | Watsonville, CA | 01/11/18 | 01/10/18
93420 | First American Title Insurance Company (State/One-Stop) | Lakeport, CA | 01/11/18 | 01/11/18
93421 | Titan Tire Corporation (State/One-Stop) | Bryan, OH | 01/11/18 | 01/10/18
93422 | Crescent Bank & Trust (State/One-Stop) | Baton Rouge, LA | 01/12/18 | 01/11/18
93423 | GE MDS (State/One-Stop) | Rochester, NY | 01/16/18 | 01/12/18
93424 | AK Steel Corporation (State/One-Stop) | West Chester, OH | 01/16/18 | 01/16/18
93425 | American Express TRS Co., Inc. (Workers) | Phoenix, AZ | 01/17/18 | 01/16/18
93426 | AMG Vanadium LLC (State/One-Stop) | Cambridge, OH | 01/17/18 | 01/16/18
93427 | Fremont Plastic Products dba The Plastics Group (State/One-Stop) | Freemont, OH | 01/17/18 | 01/16/18
93428 | Parker Hannifin Corporation (State/One-Stop) | Gothenburg, NE | 01/17/18 | 01/16/18
93429 | ALW (Company) | Redwood City, CA | 01/18/18 | 01/17/18
93430 | Ericsson (Workers) | Waltham, MA | 01/18/18 | 01/10/18
93431 | Optum Services Inc. United HealthGroup (State/One-Stop) | Hartford, CT | 01/18/18 | 01/17/18
93432 | Monofrax LLC (State/One-Stop) | Falconer, NY | 01/19/18 | 01/16/18
93433 | Seagate Technology (Workers) | Oklahoma City, OK | 01/19/18 | 01/09/18
93434 | Bridgestone Firestone North America (BFNA) (State/One-Stop) | Des Moines, IA | 01/23/18 | 01/08/18
93435 | CHS Oilseed Processing and Food Products (State/One-Stop) | Creston, IA | 01/23/18 | 12/18/17
93436 | Link Snacks, Inc. (State/One-Stop) | Laurens, IA | 01/23/18 | 12/19/17
93437 | RR Donnelley (State/One-Stop) | Lancaster, PA | 01/23/18 | 01/19/18
93438 | Titan Tire Corporation (State/One-Stop) | Des Moines, IA | 01/23/18 | 01/08/18
93439 | Trelleborg-Midas Tires North America, Inc. (State/One-Stop) | Charles City, IA | 01/23/18 | 01/08/18
93440 | Zimmer Dental (State/One-Stop) | Carlsbad, CA | 01/23/18 | 01/19/18
93441 | Allstate Investments, LLC (State/One-Stop) | Northbrook, IL | 01/24/18 | 01/23/18
93442 | Blackpoint IT Services (State/One-Stop) | Portland, OR | 01/24/18 | 01/23/18
93443 | Kobayashi Healthcare (State/One-Stop) | North Lima, OH | 01/24/18 | 01/23/18
93444 | Bucks County Courier Times (Workers) | Levittown, PA | 01/25/18 | 01/09/18
93445 | CB&I (State/One-Stop) | El Dorado, AR | 01/25/18 | 01/24/18
93446 | GenOn Maintenance Services (Union) | New Florence, PA | 01/25/18 | 01/17/18
93447 | Glencore Ltd. (State/One-Stop) | New York, NY | 01/25/18 | 01/19/18
93448 | ManpowerGroup, US (Workers) | Milwaukee, WI | 01/25/18 | 12/23/17
93449 | Metallurgical Products (State/One-Stop) | West Chester, PA | 01/25/18 | 01/24/18
93450 | Nike, Inc. (State/One-Stop) | Beaverton, OR | 01/25/18 | 01/23/18
93451 | Vishay Siliconix (State/One-Stop) | Santa Clara, CA | 01/25/18 | 01/24/18
93452 | Air Products (Union) | Hanover, PA | 01/26/18 | 01/23/18
93453 | Evergreen Metallurgical Company dba Bear Metallurgical Company (State/One-Stop) | Butler, PA | 01/26/18 | 01/18/18
93454 | Kloeckner (State/One-Stop) | Tulare, CA | 01/26/18 | 01/25/18
93455 | MACOM Technology Solutions (State/One-Stop) | Long Beach, CA | 01/26/18 | 01/25/18
93456 | Ryerson (State/One-Stop) | Vernon, CA | 01/26/18 | 01/25/18
93457 | Staples (State/One-Stop) | Framingham, MA | 01/26/18 | 01/25/18

[FR Doc. 2018-04162 Filed 2-28-18; 8:45 am]

BILLING CODE 4510-FN-P